DEPARTMENT OF AGRICULTURE

Forest Service

Siskiyou County Resource Advisory Committee

AGENCY: Forest Service, USDA.

ACTION: Notice of meeting.

SUMMARY: The Siskiyou County Resource Advisory Committee (RAC) will meet on April 15, 2002, in Yreka, California. The purpose of the meeting is to discuss the following topics: Klamath overhead rate amount, Government disbursal and administration of funds process, Schedule workshop with successful applicants to discuss administrative processes, Approve proposals, Conflict of interest that develops after proposal is awarded, How to contract private lands projects with a view to liability, Develop feedback tool to applicants, and How to handle proxy votes.

DATES: The meetings will be held April 15, 2002 from 3 p.m. to 8 p.m.

ADDRESSES: The meeting will be held at the Yreka High School Library, Preece Way, Yreka, California.

FOR FURTHER INFORMATION CONTACT: Heidi Perry, Meeting Coordinator, USDA, Klamath National Forest, 1312 Fairlane Road, Yreka, California, 96097, (530) 841-4468; EMAIL hperry@fs.fed.us.

SUPPLEMENTARY INFORMATION: The meeting is open to the public. Public comment opportunity will be provided and individuals will have the opportunity to address the Committee at that time.

Dated: April 1, 2002.
Jeffrey Stone,
Acting Forest Supervisor.

[FR Doc. 02-8379 Filed 4-5-02; 8:45 am]

BILLING CODE 3410-11-M